DEPARTMENT OF JUSTICE

Antitrust Division

Notice Pursuant to The National Cooperative Research and Production Act of 1993—Undersea Technology Innovation Consortium

Notice is hereby given that, on November 9, 2020, pursuant to Section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, DE Technologies, King of Prussia, PA; EFW Inc., An Elbit Systems of America Company, Fort Worth, TX; Ensign Bickerford Aerospace & Defense (EBAD), Simsbury, CT; GenOne Technologies, LLC, Cambridge, MA; IT Mentor Group, Inc., San Diego, CA; Kern Technology Group. LLC, Virginia Beach, VA; ManTech Advanced Systems International (ManTech), Herndon, VA; McCormick Stevenson Corporation, Clearwater, FL; Moire Inc., Issaquah, WA; NKT Photonics Inc., Boston, MA; Pure Watercraft, Inc., Seattle, WA; SEARCH, Inc., Orlando, FL; University of Delaware College of Earth, Ocean and Environment, Newark, DE; VivSoft Technologies, LLC, Brambleton, VA; and White River Technologies, Inc., Newton, MA have been added as parties to this venture.

No other changes have been made in either the membership or planned activity of the group research project. Membership in this group research project remains open, and UTIC intends to file additional written notifications disclosing all changes in membership.

On October 9, 2018, UTIC filed its original notification pursuant to Section 6(a) of the Act. The Department of Justice published a notice in the Federal Register pursuant to Section 6(b) of the Act on November 2, 2018 (83 FR 55203).

The last notification was filed with the Department on July 13, 2020. A notice was published in the Federal Register pursuant to Section 6(b) of the Act on July 31, 2020 (85 FR 46176).

Suzanne Morris,
Chief, Premerger and Division Statistics, Antitrust Division.

[FR Doc. 2020-25696 Filed 11-19-20; 8:45 am]

BILLING CODE 4410-11-P